NUCLEAR REGULATORY COMMISSION

[Docket No. 50-020; NRC-2010-0313]

Massachusetts Institute of Technology Research Reactor Environmental Assessment and Finding of No Significant Impact

Correction

In notice document 2010-24809 beginning on page 61220 in the issue of Monday, October 4, 2010, make the following corrections:

1. On page 61221, in the third column, in second line from the bottom of the page, “mCi/ml” should read “µCi/ml”.

2. On page 61222, in the first column, in the eleventh line; in the first column, in the fourteenth line; in the second column, in the 28th line; in the second column, in the 30th line; in the second column, in the 39th line; in the second column, in the 42nd line; and in the second column, in the 46th line, “∓Ci/ml” should read as “µCi/ml”

3. On page 61222, in the second column, in the 20th line; in the second column, in the 22nd line; in the second column, in the 38th line; and in the third column, in the fifteenth line, “mCi/ml” should read “µCi/ml”.

[FR Doc. C1-2010-24809 Filed 10-12-10; 8:45 am]

BILLING CODE 1505-01-D